NATIONAL AERONAUTICS AND SPACE ADMINISTRATION

[NASA Document No: NASA-25-008; NASA Docket No: NASA-25-0002]

National Environmental Policy Act; Notice of Availability of the Draft Supplemental Programmatic Environmental Assessment (PEA) for NASA's Scientific Balloon Program

AGENCY: National Aeronautics and Space Administration (NASA).

ACTION: Notice of availability.

SUMMARY: Pursuant to the National Environmental Policy Act of 1969, as amended, NASA has prepared and issued a Draft Supplemental PEA that analyzes scientific balloon launch/flight operations originating from NASA's Balloon Program Office (BPO) facilities in Fort Sumner, New Mexico, Palestine, Texas, and the proposed Burns, Oregon scientific balloon launch facility. Written public input and comments on alternatives, environmental issues, or other matters associated with the scientific balloon program's activities are hereby requested.

DATES: Publication of this notice of availability starts a 30-day public comment period. Interested parties are invited to submit comments on environmental issues and the substance of the Draft Supplemental PEA by June 12, 2025.

ADDRESSES: Written comments and materials may be submitted through one of the following methods:

• U.S. Mail: Comments submitted via first class, registered, or certified mail should be addressed to Shari Miller, Mail Stop 250, NASA Goddard Space Flight Center, Wallops Flight Facility, 34200 Fulton Street, Wallops Island, VA 23337.

• Federal E-Rulemaking Portal: Written comments and recommendations should be sent within 30 days of publication of this notice. You may submit comments, identified by NASA Docket Number NASA-25-0002 to the Federal e-Rulemaking Portal: http://www.regulations.gov. Follow the online instructions for submitting comments.

We encourage you to submit comments electronically through the Federal eRulemaking Portal at http://www.regulations.gov. If submitting your comments electronically, it is not necessary to also submit a hard copy. All comments received will be posted without change to http://www.regulations.gov. Before including your address, phone number, email address, or other personal identifying information in your comment, be advised that your entire comment—including any personal identifying information you provide—may be publicly available at any time. Please see SUPPLEMENTARY INFORMATION for additional electronic access for details on accessing the Draft Supplemental PEA.

FOR FURTHER INFORMATION CONTACT: Shari Miller via telephone at 757-824-2327, or email at shari.a.miller@nasa.gov and gsfc-dl-nepa@nasa.gov.

SUPPLEMENTARY INFORMATION: For over 35 years, NASA has launched and monitored the flights of scientific balloons launched from the BPO facilities at the Fort Sumner Municipal Airport in the Village of Fort Sumner, New Mexico, and in Palestine, Texas. Scientific balloons are used to collect scientific data and conduct research in the fields of geoscience, heliophysics, and astrophysics while operating in a near-space environment. Currently, NASA launches 31 scientific balloons each year. NASA proposes to increase the annual number of scientific balloons launched by adding a new launch site. In accordance with NEPA, NASA has prepared this Scientific Balloon Program Supplemental PEA to evaluate the potential environmental effects of adding a new scientific balloon launch site in Burns, Oregon and a new tracking station at Idaho Falls, Idaho. This site, to the north of the existing sites, would allow for larger cargos and longer float times, increasingly in demand. Up to ten scientific balloon flights per year would be launched from the proposed Burns launch site. In addition, construction, demolition, and renovation would take place at the Fort Sumner, Palestine, and proposed Burns launch sites and the Idaho Falls tracking site.

NASA has launched and monitored the flights of balloons from BPO launch facilities located in Fort Sumner, New Mexico and Palestine, Texas for over 35 years. Balloons are used to collect scientific data and conduct research on the atmosphere and near-space environments primarily in support of NASA's Science Mission Directorate. Significant finds, such as the discovery of the ozone hole above the Antarctic in the mid-1980s, have been made by instruments tested or operated on NASA scientific balloon missions.

NASA's scientific balloon program has seen a dramatic increase in the demand to test more sophisticated equipment and experiments. Because of the flexibility and flight longevity of the program, a steady stream of new instrumentation can be tested on scientific balloons. Each year, the NASA BPO accepts applications from scientific researchers and students requesting support. The applications that are selected are chosen based on scientific and technical merit; however, many are not selected due to the high demands at the existing launch sites. Therefore, NASA BPO proposes to increase the number of launches each year by 10 to a total of 41 possible launches by adding a launch site to meet new science mission desires, i.e., larger payload (physical size, shape, and weight) and longer afloat times.

The Draft Supplemental PEA addresses the environmental impacts associated with balloon launch, flight, and recovery operations; the construction and operation of a proposed new facility in Burns, Oregon; the construction and operation of a proposed new tracking station in Idaho Falls, Idaho; and proposed facility improvements at the existing Fort Sumner, New Mexico and Palestine, Texas BPO launch facilities. Although balloons are typically launched from the launch site facilities, their flight paths are wind-driven, and they could land in adjacent states. An analysis of past flights launched from Fort Sumner and Palestine indicates that the majority of balloons and payloads are recovered from Texas, New Mexico, and Arizona. Only a handful of balloons or payloads have landed in the neighboring states of Oklahoma, Kansas, and Colorado. Models conducted for future flights from Burns indicate that balloons and payloads would overfly and may be recovered from Nevada, California, Oregon, Washington, Idaho, Montana, Wyoming, Colorado, and Utah.

In preparing the Draft Supplemental PEA, NASA requested input from over 425 potentially interested parties, including those in federal, state, and tribal governments. During this process, several commenters offered support of the proposal; most did not comment. Therefore, NASA has assessed the potential effects of the proposal and the No Action Alternative on physical, biological, and economic resources and has tentatively concluded those impacts are not significant.

Electronic Access

The Draft Supplemental PEA may be viewed at the following locations:

(a) Harney County Library, Burns OR (541-573-6670);

(b) Fort Sumner Public Library, Fort Sumner NM (575-355-2832); and

(c) Palestine Public Library, Palestine TX (903-729-4121).

Limited hard copies of the Draft Supplemental PEA are available, on a first request basis, by contacting the email addresses indicated herein. The Draft Supplemental PEA will be available for public review online at the following address: https://www.nasa.gov/goddard/memd/nepa/NASA-Balloon-SPEA.

Authority: National Environmental Policy Act of 1969, as amended (42 United States Code [U.S.C.] 4321-4370) (NEPA); 14 Code of Federal Regulations (CFR) 1216.3, Procedures for Implementing the National Environmental Policy Act; and NASA Procedural Requirement (NPR) 8580.1 Implementing the National Environmental Policy Act.

Nicola Fox,
Associate Administrator, Science Mission Directorate, National Aeronautics and Space Administration.

[FR Doc. 2025-08389 Filed 5-12-25; 8:45 am]

BILLING CODE 7510-13-P